DEPARTMENT OF ENERGY

Office of Energy Efficiency and Renewable Energy

Federal Energy Management Advisory Committee

AGENCY: Department of Energy.

ACTION: Notice of public meeting.

SUMMARY: This notice announces an open meeting of the Federal Energy Management Advisory Committee (FEMAC). The Federal Advisory Committee Act (Pub. L. 92-463, 86 Stat. 770) requires that this meeting be announced in the Federal Register to allow for public participation. This notice announces the eighth meeting of FEMAC, an advisory committee established under Executive Order 13123—“Greening the Government through Efficient Energy Management.” FEMAC provides public and private sector input to the Secretary of Energy on achieving mandated energy efficiency goals for Federal facilities. The U.S. Department of Energy, Office of Energy Efficiency and Renewable Energy, Office of the Federal Energy Management Program, coordinates FEMAC activities.

DATES: Tuesday, August 19, 2003; 4 p.m. to 5:30 p.m.

ADDRESSES: Wyndham Palace Resort and Spa, 1900 Buena Vista Drive, Lake Buena Vista, Florida 32830-2206. The FEMAC meeting will be held in the Wyndham's Cloister Room (lobby level).

FOR FURTHER INFORMATION CONTACT: Steven Huff, Designated Federal Officer for the Committee, Office of the Federal Energy Management Program, U.S. Department of Energy, 1000 Independence Avenue, SW., Washington, DC 20585; (202) 586-3507.

SUPPLEMENTARY INFORMATION: Purpose of the Meeting: This FEMAC meeting is an open forum for communicating with FEMAC members and Federal Energy Management Program officials.

Tentative Agenda: Agenda will include an open discussion on the following topics:

• Implementation of Executive Order 13123

• Innovative Financing Mechanisms (Energy Saving Performance Contracts and Utility Energy Service Contracts)

• Incorporating New Technologies, Products, and Services in Federal Facilities

• Sustainable Design in Federal Facilities

• Training and Technical Assistance

• Other Energy Management Issues and Topics

• Barriers and Opportunities

• Public Comment

Public Participation: For this discussion session, FEMAC invites members of the public to help identify possible solutions in achieving the goals of reducing energy use and increasing energy efficiency in Federal facilities. No advance registration is required for the meeting. Those wishing to address the committee will be heard based on a “first-come, first-served” sign-up list for the session. With the limited time available, the committee also encourages written recommendations, suggestions, position papers, etc., combined with a short oral summary statement.

Documents may be submitted either before or after the meeting. The Chair of the Committee will make every effort to hear the views of all interested parties. The Chair will conduct the meeting to facilitate the orderly conduct of the meeting.

If you would like to file a written statement with the committee, you may do so either before or after the meeting. If you would like to make oral statements regarding any of the agenda topics, you should contact Steven Huff at (202) 586-3507 or by e-mail to steven.huff@ee.doe.gov.

Members of the FEMAC are: Stuart Berjansky, Advance Transformer Company; Jared Blum, Polyisocyanurate Insulation Manufacturers Association; Robert Collins, Jr., Tampa Electric Company; Richard Earl, PB Facilities, Inc., Parsons Brinckerhoff Company; Terrel Emmons, Office of the Architect of the Capitol; Richard Hays, City of San Diego; Brian Henderson, New York State Energy Research and Development Authority; Erbin Keith, Sempra Energy Solutions, LLC; Vivian Loftness, Carnegie Mellon University; Anne Marie McShea, The Center for Resource Solutions; Get Moy, Office of the Deputy Under Secretary of Defense; Mary Palomino, Salt River Project; James Rispoli, U.S. Department of Energy; Mitchell Rosen, Liberty Total Comfort Systems; and Cynthia Vallina, Office of Management and Budget. Mr. Henderson is the FEMAC chair.

Minutes: The minutes of the meeting will be available for public review and copying within 30 days at the Freedom of Information Public Reading Room; Room 1E-190; Forrestal Building; 1000 Independence Avenue, SW., Washington, DC, between 9 a.m. and 4 p.m., Monday through Friday, except Federal holidays.

Issued at Washington, DC, on July 21, 2003.
Rachel M. Samuel,
Deputy Advisory Committee Management Officer.

[FR Doc. 03-18978 Filed 7-24-03; 8:45 am]

BILLING CODE 6450-01-P